DEPARTMENT OF DEFENSE

Department of the Air Force

[Docket ID USAF-2008-0048]

Privacy Act of 1974; System of Records

AGENCY: Department of the Air Force, DoD.

ACTION: Notice to Alter a System of Records.

SUMMARY: The Department of the Air Force is proposing to alter a system of records notice in its existing inventory of record systems subject to the Privacy Act of 1974, (5 U.S.C. 552a), as amended.

DATES: This proposed action will be effective without further notice on January 14, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on November 10, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 9, 2008.
Morgan E. Frazier,
Alternate OSD Federal Register Liaison Officer, Department of Defense.

F051 AF JA D

System name:

Litigation Records (Except Patents) (June 11, 1997, 62 FR 31793).

Changes:

* * * * *

System location:

Delete entry and replace with “The Judge Advocate General, Headquarters United States Air Force, 1420 Air Force Pentagon, Washington, DC 20330-1420. At Headquarters of Major Commands and all levels down to and including Air Force installations worldwide. Official mailing addresses are published as an appendix to the Air Force's compilation of systems of records notices.”

Categories of individuals covered by the system:

Delete entry and replace with “All individuals who have brought suit against, or been involved in litigation with, the United States or its officers or employees concerning matters related to the Department of the Air Force; persons against whom litigation has been filed under 28 U.S.C. 1346b, 31 U.S.C. 3702, 42 U.S.C. 2651-3, and 46 U.S.C. App. 741-52; dependents, witnesses, and other persons providing information during the course of litigation.”

Categories of records in the system:

Delete entry and replace with “All records required to defend the Department of the Air Force in litigation, to include: Litigants' names, Social Security Numbers (SSN), court pleadings; reports from Department of Defense offices; state and federal agencies; foreign governments; witness statements; surveys; contracts; photographs; legal opinions; personnel, finance, medical, and business records; audits; English translations of foreign documents; and environmental planning documents (including environmental impact statements).”

Authority for maintenance of the system:

Delete entry and replace with “10 U.S.C. 8013, Secretary of the Air Force, 10 U.S.C. 8037, Judge Advocate General, Air Force Instruction 51-301, Civil Litigation and E.O. 9397 (SSN).”

Purpose(s):

Delete entry and replace with “Used by officers, employees and members of the Air Force to represent the United States in civil litigation; to enable the United States and its officers, employees and members who are counsel for, parties to, or otherwise involved in an official capacity in civil domestic or foreign litigation to obtain information from or consult with other governmental, corporate and private organizations, entities and individuals regarding litigation decisions to be made by The Judge Advocate General and the Department of Justice; to obtain information from or consult with other governmental, corporate and private organizations, entities and individuals in order to create structured settlement proposals; by the Air Force Audit Agency in conducting audits; by the Air Force Board for Correction of Military Records; and by the Defense Finance and Accounting Service and any Air Force financial management office and its officers and employees.”

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

To the Court of Federal Claims on legislative referral of private relief bills;

To the Department of Veterans Affairs and its officers and employees to adjudicate claims.

The DoD ‘Blanket Routine Uses’ published at the beginning of the Air Force's compilation of systems of records notices apply to this system.”

Policies and practices for storing, retrieving, accessing, retaining, and disposing of records in the system:

Storage:

Delete entry and replace with “Paper records in file folders and electronic storage media.”

Retrievability:

Delete entry and replace with “Retrieved by name of litigant, Social Security Number (SSN) and year of litigation.”

Safeguards:

Delete entry and replace with “Records are accessed by authorized personnel as necessary to accomplish their official duties. Paper records are stored in locked rooms and cabinets. The computer storage devices are protected by computer system software.”

Retention and disposal:

Delete entry and replace with “Records located at AFLOA/JACL are retired permanently to the Washington National Records Center, Washington, DC 20409-0001. Other command levels dispose of records after two years upon completion of agency action. Files maintained in accordance with 42 U.S.C. 2651-3 are disposed of after two years. Medical malpractice litigation files are retired to the Armed Forces Institute of Pathology. Paper records are disposed of by tearing into pieces, shredding, macerating, pulping, or burning. Computer records are destroyed by deleting, erasing, degaussing, or by overwriting.”

System manager(s) and address:

Delete entry and replace with “The Judge Advocate General, Headquarters United States Air Force, 1420 Air Force Pentagon, Washington, DC 20330-1420; or to the Staff Judge Advocate at the concerned subordinate command or installation.”

Notification procedure:

Delete entry and replace with “Individuals seeking to determine whether information about themselves is contained in this system should address written inquiries with signature to The Judge Advocate General, Headquarters United States Air Force, 1420 Air Force Pentagon, Washington, DC 20330-1420; or to the Staff Judge Advocate at the concerned subordinate command or installation.

Written requests should be signed and include full name and proof of identity.”

Record access procedures:

Delete entry and replace with “Individuals seeking access to information about themselves contained in this system should address written inquiries to The Judge Advocate General, Headquarters United States Air Force, 1420 Air Force Pentagon, Washington, DC 20330-1420; or to the Staff Judge Advocate at the concerned subordinate command or installation.

Written requests should be signed and include full name and proof of identity.”

Contesting record procedures:

Delete entry and replace with “The Air Force rules for accessing records, and for contesting contents and appealing initial agency determinations are published in Air Force Instruction 33-332; 32 CFR part 806b; or may be obtained from the system manager.”

Record source categories:

Delete entry and replace with “Court records, transcripts of depositions and other hearings, correspondence initiated by parties to litigation, information provided through witness interviews or other discovery methods, reports prepared by or on behalf of the Air Force, reports of Federal, state, local or foreign government agencies and information obtained from witnesses and claimants.”

* * * * *

F051 AF JA D

System name:

Litigation Records (Except Patents).

System location:

The Judge Advocate General, Headquarters United States Air Force, 1420 Air Force Pentagon, Washington, DC 20330-1420. At Headquarters of Major Commands and all levels down to and including Air Force installations worldwide. Official mailing addresses are published as an appendix to the Air Force's compilation of systems of records notices.

Categories of individuals covered by the system:

All individuals who have brought suit against, or been involved in litigation with, the United States or its officers or employees concerning matters related to the Department of the Air Force; persons against whom litigation has been filed under 28 U.S.C. 1346b, 31 U.S.C. 3702, 42 U.S.C. 2651-3, and 46 U.S.C. App. 741-52; dependents, witnesses, and other persons providing information during the course of litigation.

Categories of records in the system:

All records required to defend the Department of the Air Force in litigation, to include: litigants' names; Social Security Numbers (SSN); court pleadings; reports from Department of Defense offices, state and federal agencies; foreign governments; witness statements; surveys; contracts; photographs; legal opinions; personnel, finance, medical, and business records; audits; English translations of foreign documents; and environmental planning documents (including environmental impact statements).

Authority for maintenance of the system:

10 U.S.C. 8013, Secretary of the Air Force, 10 U.S.C. 8037, Judge Advocate General, Air Force Instruction 51-301, Civil Litigation and E.O. 9397 (SSN).

Purpose(s):

Used by officers, employees and members of the Air Force to represent the United States in civil litigation; to enable the United States and its officers, employees and members who are counsel for, parties to, or otherwise involved in an official capacity in civil domestic or foreign litigation to obtain information from or consult with other governmental, corporate and private organizations, entities and individuals regarding litigation decisions to be made by The Judge Advocate General and the Department of Justice; to obtain information from or consult with other governmental, corporate and private organizations, entities and individuals in order to create structured settlement proposals; by the Air Force Audit Agency in conducting audits; by the Air Force Board for Correction of Military Records; and by the Defense Finance and Accounting Service and any Air Force financial management office and its officers and employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Court of Federal Claims on legislative referral of private relief bills;

To the Department of Veterans Affairs and its officers and employees to adjudicate claims.

The DoD ‘Blanket Routine Uses’ published at the beginning of the Air Force's compilation of systems of records notices apply to this system.

Policies and practices for storing, retrieving, accessing, retaining, and disposing of records in the system:

Storage:

Paper records in file folders and electronic storage media.

Retrievability:

Retrieved by name of litigant, Social Security Number (SSN) and year of litigation.

Safeguards:

Records are accessed by authorized personnel as necessary to accomplish their official duties. Paper records are stored in locked rooms and cabinets. The computer storage devices are protected by computer system software.

Retention and disposal:

Records located at AFLOA/JACL are retired permanently to the Washington National Records Center, Washington, DC 20409-0001. Other command levels dispose of records after two years upon completion of agency action. Files maintained in accordance with 42 U.S.C. 2651-3 are disposed of after two years. Medical malpractice litigation files are retired to the Armed Forces Institute of Pathology. Paper records are disposed of by tearing into pieces, shredding, macerating, pulping, or burning. Computer records are destroyed by deleting, erasing, degaussing, or by overwriting.

System manager(s) and address:

The Judge Advocate General, Headquarters United States Air Force, 1420 Air Force Pentagon, Washington, DC 20330-1420; or to the Staff Judge Advocate at the concerned subordinate command or installation.

Notification procedure:

Individuals seeking to determine whether information about themselves is contained in this system should address written inquiries to The Judge Advocate General, Headquarters United States Air Force, 1420 Air Force Pentagon, Washington, DC 20330-1420; or to the Staff Judge Advocate at the concerned subordinate command or installation.

Written requests should be signed and include full name and proof of identity.

Record access procedures:

Individuals seeking access to information about themselves contained in this system should address written inquiries to The Judge Advocate General, Headquarters United States Air Force, 1420 Air Force Pentagon, Washington, DC 20330-1420; or to the Staff Judge Advocate at the concerned subordinate command or installation.

Written requests should be signed and include full name and proof of identity.

Contesting record procedures:

The Air Force rules for accessing records, and for contesting contents and appealing initial agency determinations are published in Air Force Instruction 33-332; 32 CFR part 806b; or may be obtained from the system manager.

Record source categories:

Court records, transcripts of depositions and other hearings, correspondence initiated by parties to litigation, information provided through witness interviews or other discovery methods, reports prepared by or on behalf of the Air Force, reports of Federal, state, local or foreign government agencies and information obtained from witnesses and claimants.

Exemptions claimed for the system:

None.

[FR Doc. E8-29519 Filed 12-12-08; 8:45 am]

BILLING CODE 5001-05-P